NATIONAL FOUNDATION ON THE ARTS AND THE HUMANITIES

National Endowment for the Arts

Submission for OMB Review; Comment Request

The National Endowment for the Arts (NEA) has submitted a public information collection request (ICR) to the Office of Management and Budget (OMB) for review and approval in accordance with the Paperwork Reduction Act of 1995: Clearance Request for NEA ArtBeat Survey. Copies of this ICR, with applicable supporting documentation, may be obtained by visiting www.Reginfo.gov.

Comments should be sent to the Office of Information and Regulatory Affairs, Attn: OMB Desk Officer for the National Endowment for the Arts, Office of Management and Budget, Room 10235, Washington, DC 20503 202/395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Could help minimize the burden of the collection of information on those who are to respond, including through the use of electronic submission of responses through Grants.gov.

SUPPLEMENTARY INFORMATION: The ArtBeat Questionnaire is available upon request from survey@arts.gov

Agency: National Endowment for the Arts.

Title: Clearance Request for NEA ArtBeat Survey.

OMB Number: 3135-XXXX.

Frequency: Annually, FY14-FY16.

Affected Public: Nonprofit organizations and individuals.

Estimated Number of Respondents: 503,532.

Estimated Time per Respondent: 5 min.

Total Burden Hours: 41,961.

Total Annualized Capital/Startup Costs: 0.

Total Annual Costs (Operating/Maintaining Systems or Purchasing Services): 0.

Description: Under the National Endowment for the Arts' Strategic Plan, a critical NEA goal is to Engage the Public with Diverse and Excellent Art. To help monitor progress in achieving this goal, the NEA plans to conduct the ArtBeat information collection. Results from the collection will enable the Agency to measure the percentage of audience members at various kinds of NEA-sponsored arts events (exhibits, performances, and film screenings) who report being affected by those events. Also relevant to NEA decision-makers, the data will allow the NEA to gauge how such responses vary by different types of events and audience groups.

Dated: May 13, 2014.
Kathy Plowitz-Worden,
Panel Coordinator, National Endowment for the Arts.

[FR Doc. 2013-11801 Filed 5-16-13; 8:45 am]

BILLING CODE 7537-01-P